ENVIRONMENTAL PROTECTION AGENCY

[EPA-HQ-OA-2015-0553; FRL-9663-01-OMS]

Information Collection Request Submitted to OMB for Review and Approval; Comment Request; CEQ-EPA Presidential Innovation Award for Environmental Educators and the President's Environmental Youth Awards Application

AGENCY: Environmental Protection Agency (EPA).

ACTION: Notice.

SUMMARY: The Environmental Protection Agency (EPA) has submitted an information collection request (ICR), CEQ-EPA Presidential Innovation Award for Environmental Educators and the President's Environmental Youth Awards Application (EPA ICR Number 2524.03, OMB Control Number 2090-0031) to the Office of Management and Budget (OMB) for review and approval in accordance with the Paperwork Reduction Act. This is a proposed extension of the ICR, which is currently approved through April 30, 2022. Public comments were previously requested via the Federal Register on October 18, 2021 during a 60-day comment period. This notice allows for an additional 30 days for public comments. A fuller description of the ICR is given below, including its estimated burden and cost to the public. An agency may not conduct or sponsor and a person is not required to respond to a collection of information unless it displays a currently valid OMB control number.

DATES: Additional comments may be submitted on or before April 15, 2022.

ADDRESSES: Submit your comments, referencing Docket ID Number EPA-HQ-OA-2015-0553, online using www.regulations.gov (our preferred method) or by mail to: EPA Docket Center, Environmental Protection Agency, Mail Code 2821T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Javier Araujo, Office of the Administrator, Office of Environmental Education, MC-1704A, Environmental Protection Agency, 1200 Pennsylvania Ave. NW, Washington, DC 20460; telephone number: 202-564-2642; fax number: 202-564-2753; email address: araujo.javier@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The purpose of this information collection request is to collect information from applicants to select recipients for the Presidential Innovation Award for Environmental Educators (PIAEE) program and the President's Environmental Youth Awards (PEYA) program. The U.S. Environmental Protection Agency (EPA or the Agency), in conjunction with the White House Council on Environmental Quality (CEQ), established the PIAEE program to meet the requirements of Section 8(e) of the National Environmental Education Act (20 U.S.C. 5507(e)). The Agency established the PEYA program to meet the requirements of Section 8(d) of the National Environmental Education Act (20 U.S.C. 5507(d)).

Form Numbers: 5900-578, 6500-04.

Respondents/affected entities: K-12 teachers who teach on a full-time basis in a public school that is operated by a local education agency, including schools funded by the Bureau of Indian Affairs. For this program, a local education agency is one as defined by section 198 of the Elementary and Secondary Education Act of 1965 (now codified at 20 U.S.C. 7801(26)).

Respondent's obligation to respond: Required to obtain information from the applicants for PIAEE and PEYA program and assess certain aspects of programs as established under Section 8(e) of the National Environmental Education Act (20 U.S.C. 5507(e)) and Section 8(d) of the National Environmental Education Act (20 U.S.C. 5507(d)) respectively.

Estimated number of respondents: 75 (total per year) for the PIAEE program and 250 (total per year) for the PEYA program.

Frequency of response: Annually.

Total estimated burden: 3,225 hours (per year). Burden is defined at 5 CFR 1320.03(b).

Total estimated cost: $116,888 per year, includes $0 capital or operation & maintenance costs.

Changes in the Estimates: There is an increase of 2,475 hours in the total estimated respondent burden compared with the ICR currently approved by OMB. This increase is due to the addition of the PEYA application. The individual cost per respondent for internal processing has also risen, due to increases in labor rate estimates.

Courtney Kerwin,
Director, Regulatory Support Division.

[FR Doc. 2022-05509 Filed 3-15-22; 8:45 am]

BILLING CODE 6560-50-P